OFFICE OF PERSONNEL MANAGEMENT

5 CFR Part 550

Pay Administration (General)

CFR Correction

PART 550—[CORRECTED]

§ 550.342 [Removed]

In Title 5 of the Code of Federal Regulations, Parts 1 to 699, revised as of January 1, 2001, part 550 is corrected by removing § 550.342.

[FR Doc. 01-55532 Filed 10-22-01; 8:45 am]

BILLING CODE 1505-01-D